DEPARTMENT OF VETERANS AFFAIRS

38 CFR Part 36

RIN 2900-AN71

Loan Guaranty: Elimination of Redundant Regulations

AGENCY: Department of Veterans Affairs.

ACTION: Final rule.

SUMMARY: This document eliminates redundant and obsolete provisions in the Department of Veterans Affairs (VA) loan guaranty regulations. The provisions being removed are no longer necessary because the phase-in of VA's new loan administration rules is complete.

DATES: Effective Date: June 15, 2010.

FOR FURTHER INFORMATION CONTACT: Katherine Faliski, Assistant Director for Loan Processing and Valuation (262), Veterans Benefits Administration, Department of Veterans Affairs, 810 Vermont Avenue, NW., Washington, DC 20420, telephone (202) 461-9527. (This is not a toll-free telephone number.)

SUPPLEMENTARY INFORMATION: On February 18, 2005 (70 FR 8472), VA proposed to amend its loan guaranty regulations to implement new program requirements for the mortgage servicing industry. The notice of proposed rulemaking was followed by publication of a supplemental notice regarding the computer system for the new requirements (71 FR 68498, Nov. 27, 2006) and a second supplemental notice regarding VA's proposal for phasing-in the requirements (72 FR 30505, June 1, 2007). The second supplemental notice stated: “When all industry segments have been brought on-line, VA will remove current §§ 36.4300 through 36.4393, and redesignate the new 4800 series to replace current §§ 36.4300 through 36.4393. At that time, all program participants would be subject to the new rules.”

On February 1, 2008 (73 FR 6294), VA published a final rule amending 38 CFR part 36 to implement the new program requirements. VA temporarily designated then-existing provisions found at 38 CFR 36.4300 through 36.4393 (the “36.4300 series”) as a new subpart B and established a new subpart F to include new §§ 36.4800 through 36.4893 (the “36.4800 series”). The 36.4800 series replicated most aspects of the VA Loan Guaranty Program set forth in the 36.4300 series, but also included changes related to the servicing and liquidating of guaranteed housing loans in default, and the submission of guaranty claims by loan holders.

VA implemented the phase-in of the subpart F provisions over a period of 11 months and completed the process during the 2nd quarter of FY 2009, following which the 36.4300 series became redundant and obsolete. Rather than eliminating subpart B altogether, however, we are redesignating the 36.4800 series to replace the 36.4300 series in its entirety. This action is necessary because most program participants are accustomed to referring to the 36.4300 series for regulations pertaining to the VA Loan Guaranty Program.

Administrative Procedure Act

This final rule deletes only redundant or obsolete provisions. It also redesignates current regulations without making any substantive changes. Accordingly, it is exempt from the prior notice-and-comment and delayed-effective-date requirements of 5 U.S.C. 553.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB) unless OMB waives such review, as any regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this rule have been examined, and it has been determined not to be a significant regulatory action under Executive Order 12866.

Unfunded Mandates

The Unfunded Mandates Reform Act of 1995 requires, at 2 U.S.C. 1532, that agencies prepare an assessment of anticipated costs and benefits before issuing any rule that may result in expenditure by State, local, and tribal governments, in the aggregate, or by the private sector, of $100 million or more (adjusted annually for inflation) in any given year. This rule will have no such effect on State, local, and tribal governments, or on the private sector.

Paperwork Reduction Act of 1995

This document contains no provisions constituting a collection of information under the Paperwork Reduction Act of 1995 (44 U.S.C. 3501-3521).

Regulatory Flexibility Act

The initial and final regulatory flexibility analysis requirements of sections 603 and 604 of the Regulatory Flexibility Act, 5 U.S.C. 601-612, are not applicable to this rule because a notice of proposed rulemaking is not required. Even so, the Secretary hereby certifies that this regulatory amendment will not have a significant economic impact on a substantial number of small entities as they are defined in the Regulatory Flexibility Act. This amendment will not directly affect any small entities. Therefore, this amendment is also exempt pursuant to 5 U.S.C. 605(b) from the initial and final regulatory flexibility analysis requirements of sections 603-604.

Catalog of Federal Domestic Assistance

The Catalog of Federal Domestic Assistance Program number and title for the program affected by this document are 64.114, Veterans Housing—Guaranteed and Insured Loans.

Signing Authority

The Secretary of Veterans Affairs, or designee, approved this document and authorized the undersigned to sign and submit the document to the Office of the Federal Register for publication electronically as an official document of the Department of Veterans Affairs. John R. Gingrich, Chief of Staff, Department of Veterans Affairs, approved this document on June 4, 2010 for publication.

List of Subjects in 38 CFR Part 36

Condominiums, Handicapped, Housing, Indians, Individuals with disabilities, Loan programs—housing and community development, Loan programs—Indians, Loan programs—veterans, Manufactured homes, Mortgage insurance, Reporting and recordkeeping requirements, Veterans.

Dated: June 9, 2010.
Robert C. McFetridge,
Director of Regulation Policy and Management, Office of the General Counsel.

For the reasons stated in the preamble, VA amends 38 CFR part 36 as follows:

PART 36—LOAN GUARANTY

1. The authority citation for part 36 continues to read as follows:

Authority: 38 U.S.C. 501 and as otherwise noted.

Subpart B—[Removed]

2. Remove subpart B.

Subpart F—[Redesignated as Subpart B]

3. Redesignate subpart F as new subpart B.

§§ 36.4800 through 36.4893 [Redesignated as §§ 36.4300 through 36.4393]

4. Redesignate §§ 36.4800 through 36.4893 as follows:

Old section | New section
36.4800 | 36.4300
36.4801 | 36.4301
36.4802 | 36.4302
36.4803 | 36.4303
36.4804 | 36.4304
36.4805 | 36.4305
36.4806 | 36.4306
36.4807 | 36.4307
36.4808 | 36.4308
36.4809 | 36.4309
36.4810 | 36.4310
36.4811 | 36.4311
36.4812 | 36.4312
36.4813 | 36.4313
36.4814 | 36.4314
36.4815 | 36.4315
36.4816 | 36.4316
36.4817 | 36.4317
36.4818 | 36.4318
36.4819 | 36.4319
36.4820 | 36.4320
36.4821 | 36.4321
36.4822 | 36.4322
36.4823 | 36.4323
36.4824 | 36.4324
36.4825 | 36.4325
36.4826 | 36.4326
36.4827 | 36.4327
36.4828 | 36.4328
36.4829 | 36.4329
36.4830 | 36.4330
36.4831 | 36.4331
36.4832 | 36.4332
36.4833 | 36.4333
36.4835 | 36.4335
36.4836 [Reserved] | 36.4336 [Reserved]
36.4837 | 36.4337
36.4838 | 36.4338
36.4839 | 36.4339
36.4840 | 36.4340
36.4841 | 36.4341
36.4842 | 36.4342
36.4843 | 36.4343
36.4845 | 36.4345
36.4846 | 36.4346
36.4847 | 36.4347
36.4848 | 36.4348
36.4849 | 36.4349
36.4850 | 36.4350
36.4851 | 36.4351
36.4852 | 36.4352
36.4853 | 36.4353
36.4854 | 36.4354
36.4855 | 36.4355
36.4856 | 36.4356
36.4857 | 36.4357
36.4858 [Reserved] | 36.4358 [Reserved]
36.4859 | 36.4359
36.4860 | 36.4360
36.4861 | 36.4361
36.4862 | 36.4362
36.4863 | 36.4363
36.4864 | 36.4364
36.4865 | 36.4365
36.4867 | 36.4367
36.4868 | 36.4368
36.4869 | 36.4369
36.4870 | 36.4370
36.4875 | 36.4375
36.4877 | 36.4377
36.4878 | 36.4378
36.4879 | 36.4379
36.4880 | 36.4380
36.4890 | 36.4390
36.4891 | 36.4391
36.4892 | 36.4392
36.4893 | 36.4393

[FR Doc. 2010-14156 Filed 6-14-10; 8:45 am]

BILLING CODE P